DEPARTMENT OF DEFENSE

Department of the Navy

Notice of Public Meetings for the Draft Environmental Impact Statement/Overseas Environmental Impact Statement for Navy Atlantic Fleet Training and Testing

AGENCY: Department of the Navy, DoD.

ACTION: Notice.

SUMMARY: Pursuant to the National Environmental Policy Act (NEPA) of 1969 and regulations implemented by the Council on Environmental Quality, the Department of the Navy (DoN) has prepared and filed with the U.S. Environmental Protection Agency a Draft Environmental Impact Statement (EIS)/Overseas EIS (OEIS) for public release on June 30, 2017, to evaluate the potential environmental effects from training and testing activities conducted within the Navy's Atlantic Fleet Training and Testing (AFTT) Study Area.

The Study Area is in the western Atlantic Ocean and encompasses the waters along the east coast of North America, the Gulf of Mexico, portions of the Caribbean Sea, Navy pierside locations and port transit channels, waters near civilian ports, and inland waters (e.g., lower Chesapeake Bay). The Study Area covers approximately 2.6 million square nautical miles of ocean area and includes designated Navy operating areas and special use airspace.

The National Marine Fisheries Service (NMFS) is a Cooperating Agency for the EIS/OEIS.

With the filing of the Draft EIS/OEIS, the DoN is initiating a 60-day public comment period and has scheduled five public meetings to receive oral and written comments on the Draft EIS/OEIS. This notice announces the dates and locations of the public meetings for this Draft EIS/OEIS and provides supplementary information about the environmental planning effort.

Dates and Addresses: The Draft EIS/OEIS public review period will begin June 30, 2017, and end on August 29, 2017. The Navy will hold five public meetings to inform the public about the Proposed Action and the alternatives under consideration, and to provide an opportunity for the public to comment on the Proposed Action, alternatives, and the adequacy and accuracy of the analysis in the Draft EIS/OEIS. Each of the public meetings will be conducted in an open-house format with informational stations staffed by DoN representatives. These representatives will be available during the public meeting to clarify information related to the Draft EIS/OEIS. Federal, state, and local agencies and officials, and interested groups and individuals are encouraged to provide comments in person at any of the public meetings or in writing during the public comment period.

The public meetings will be held between 4 p.m. and 8 p.m. on the following dates and at the following locations:

1. Wednesday, July 19, 2017, Hotel Providence, 139 Mathewson Street, Providence, RI 02903.

2. Tuesday, July 25, 2017, UNC Institute of Marine Sciences, 3431 Arendell Street, Morehead City, NC 28557.

3. Wednesday, July 26, 2017, Nauticus, 1 Waterside Drive, Norfolk, VA 23510.

4. Tuesday, August 1, 2017, Prime F. Osborn III Convention Center, 1000 Water Street, Jacksonville, FL 32204.

5. Thursday, August 3, 2017, Gulf Coast State College Conference Center, 5230 W. Highway 98, Panama City, FL 32401.

Attendees will be able to submit comments in writing or orally using a voice recorder at the public meetings. Equal weight will be given to oral and written statements. Comments may also be submitted by U.S. postal mail or electronically via the project Web site provided below. Written comments may be submitted by mail to Naval Facilities Engineering Command Atlantic, Attn: Code EV22KP (AFTT EIS Project Managers), 6506 Hampton Boulevard, Norfolk, VA 23508-1278 and through the project Web site; all written comments must be post marked or received by August 29, 2017. All statements, oral or written, submitted during the public review period will become part of the public record on the Draft EIS/OEIS and will be considered in preparation of the Final EIS/OEIS.

Public meeting details will also be announced in local newspapers and on the project Web site: www.AFTTEIS.com.

FOR FURTHER INFORMATION CONTACT: Naval Facilities Engineering Command Atlantic, Attn: Code EV22KP (AFTT EIS Project Managers), 6506 Hampton Boulevard, Norfolk, VA 23508-1278.

SUPPLEMENTARY INFORMATION: A Notice of Intent (NOI) to prepare this DEIS/OEIS was published in the Federal Register on November 12, 2015, (Vol. 80, No. 218, p. 69951). A correction to the Notice of Intent was issued on December 1, 2015 and published in the Federal Register (Vol. 80, No. 230, p. 75076) to update the deadline for comment submission.

The DoN's Proposed Action is to conduct military readiness training activities, and research, development, testing, and evaluation activities in the AFTT Study Area. These military readiness activities include the use of active sonar and explosives within existing range complexes and testing ranges and additional areas located in the Atlantic Ocean along the eastern coast of North America, in portions of the Caribbean Sea, the Gulf of Mexico, at Navy pierside locations and port transit channels, near civilian ports, and in bays, harbors, and inland waterways (e.g., the lower Chesapeake Bay). These military readiness activities are generally consistent with those analyzed in the AFTT EIS/OEIS completed in December 2013 and are representative of training and testing that the Navy has been conducting in the AFTT Study Area for decades.

Potential direct, indirect, cumulative, short-term, long-term, irreversible, and irretrievable impacts to the environment from two action alternatives and a No Action Alternative are evaluated in the Draft EIS/OEIS. Resources evaluated include air quality, sediments and water quality, vegetation, invertebrates, marine habitats, fish, marine mammals, sea turtles and other marine reptiles, birds and bats, cultural resources, socioeconomic resources, and public health and safety.

Based on the results of the analysis, the Navy has requested from NMFS a Letter of Authorization (LOA) in accordance with the MMPA to authorize the incidental take of marine mammals that may result from the implementation of the activities analyzed in the AFTT Draft EIS/OEIS. In accordance with Section 7 of the Endangered Species Act, the Navy is consulting with NMFS and U.S. Fish and Wildlife Service (USFWS) for potential impacts to federally listed species. The Navy will complete all required consultations and comply with other applicable laws and regulations.

The Draft EIS/OEIS addresses mitigation measures designed to help reduce or avoid potential impacts to marine resources, including new mitigation measures that include expanded geographic mitigation areas, and updates to procedural mitigation measures. In addition, the Draft EIS/OEIS addresses marine species monitoring efforts designed to track compliance with authorizations and to investigate the effectiveness of mitigation measures implemented as part of the Proposed Action. The proposed mitigation measures, including new mitigation measures, would be implemented under either alternative in order to maximize the mitigation benefits to the environment.

Mitigation measures are being coordinated through the consultation and permitting processes. The DoN will also consider public comments on proposed mitigation measures described in this Draft EIS/OEIS.

Notice of the availability of the draft EIS/OEIS was distributed to federal, state, and local agencies, elected officials, and other interested individuals and organizations. Copies of the Draft EIS/OEIS are available for public review at the following libraries:

1. Anne Arundel County Public Library, 5 Harry S. Truman Parkway, Annapolis, MD 21401.

2. Bay County Public Library, 898 West 11th Street, Panama City, FL 32401.

3. Ben May Main Library, 701 Government Street, Mobile, AL 36602.

4. Boston Public Library, Central Library, 700 Boylston Street, Boston, MA 02116.

5. Camden County Public Library, 1410 Highway 40 E, Kingsland, GA 31548.

6. Carteret County Public Library, 1702 Live Oak Street, Suite 100, Beaufort, NC 28516.

7. Charleston County Public Library, Main Library, 68 Calhoun Street, Charleston, SC 29401.

8. Corpus Christi Public Library, La Retama Central Library, 805 Comanche, Corpus Christi, TX 78401.

9. East Bank Regional Library, 4747 West Napoleon Avenue, Metairie, LA 70001.

10. Dare County Library, Manteo, 700 Highway 64/264, Manteo, NC 27954.

11. Havelock-Craven County Public Library, 301 Cunningham Boulevard, Havelock, NC 28532.

12. Jacksonville Public Library, 303 North Laura Street, Jacksonville, FL 32202.

13. Dare County Library, Kill Devil Hills, 400 Mustian Street, Kill Devil Hills, NC 27948.

14. Houston Public Library, 500 McKinney Street, Houston, TX 77002.

15. New Hanover County Public Library, 201 Chestnut Street, Wilmington, NC 28401.

16. New Orleans Public Library, Main Library, 219 Loyola Avenue, New Orleans, LA 70112.

17. Onslow County Public Library, 58 Doris Avenue East, Jacksonville, NC 28540.

18. Pascagoula Public Library, 3214 Pascagoula Street, Pascagoula, MS 39567.

19. West Florida Public Library, Pensacola Library, 239 North Spring Street, Pensacola, FL 32502.

20. Portland Public Library, 5 Monument Square, Portland, ME 04101.

21. Providence Public Library, 150 Empire Street, Providence, RI 02903.

22. Public Library of New London, 63 Huntington Street, New London, CT 06320.

23. Slover Memorial Main Library, 235 East Plume Street, Norfolk, VA 23510.

24. Walton County Library, Coastal Branch Library, 437 Greenway Trail, Santa Rosa Beach, FL 32459.

25. Webb Memorial Library and Civic Center, 812 Evans Street, Morehead City, NC 28557.

26. West Florida Public Library, Southwest Branch, 12248 Gulf Beach Highway, Pensacola, FL 32507.

27. Mandel Public Library of West Palm Beach, 411 Clematis Street, West Palm Beach, FL 33401.

Copies of the AFTT Draft EIS/OEIS are available for electronic viewing at www.AFTTEIS.com. A paper copy of the Executive Summary and a single compact disc (CD) of the Draft EIS/OEIS will be made available upon written request by contacting: Naval Facilities Engineering Command Atlantic, Attn: Code EV22KP (AFTT EIS Project Managers), 6506 Hampton Boulevard, Norfolk, VA 23508-1278.

Authority: 42 U.S.C. 4332, E.O. 12114, and 40 CFR 1500-1508.

Dated: June 27, 2017.
A.M. Nichols,
Lieutenant Commander, Judge Advocate General's Corps, U.S. Navy, Federal Register Liaison Officer.

[FR Doc. 2017-13790 Filed 6-29-17; 8:45 am]

BILLING CODE 3810-FF-P